DEPARTMENT OF JUSTICE

Notice of Lodging of Consent Decree Pursuant to the Comprehensive Environmental Response, Compensation and Liability Act and Resource Conservation and Recovery Act

In accordance with Departmental policy, 28 CFR 50.7, notice is hereby given that on September 28, 2000, a proposed Consent Decree in United States v. TPI Petroleum, Inc., Civil Action No. 1:00-CV-732, was lodged with the United States District Court for the Western District of Michigan.

The Consent Decree resolves certain claims of the United States against TPI Petroleum, Inc. under Sections 106 and 107(a) of CERCLA, 42 U.S.C. 9606 and 9607(a) and Section 7003 of the Resource Conservation and Recovery Act (“RCRA”), 42 U.S.C. 6973 at the former Organic Chemical, Inc. facility (“the Site”) in Grandville, Kent County, Michigan. The defendant has been named as a former owner/operator of the Site at the time that hazardous substances were disposed of at the Site.

The settlement requires the settling defendant to make payment of $674,431, plus interest from June 1998, for past response costs incurred by the U.S. Environmental Protection Agency in connection with the Site and for settling defendant to perform the soil component of EPA's selected second phase or Operable Unit for the Site's remediation.

The Department of Justice will receive, for a period of thirty (30) days from the date of this publication, comments relating to the proposed Consent Decree. Comments should be addressed to the Assistant Attorney General for the Environment and Natural Resources Division, United States Department of Justice, P.O. Box 7611, Ben Franklin Station, Washington, DC 20044-7611, and should refer to United States v. TPI Petroleum, Inc., Civil Action No. 1:00-CV-732, and the Department of Justice Reference No. 90-11-3-990A. Commenters may request an opportunity for a public hearing in the affected area, in accordance with Section 7003(d) of RCRA, 42 U.S.C. 6973(d), by contacting Jerome Kujawa (EPA Region 5) at (312) 886-6731.

The proposed Consent Decree may be examined at the Office of the United States Attorney for the Western District of Michigan, 330 Ionia Avenue, NW., Suite 501, Grand Rapids, Michigan 49503; the Region 5 Office of the United States Environmental Protection Agency, 77 West Jackson Boulevard, Chicago, Illinois 60604-3590. A copy of the proposed Consent Decree may also be obtained by mail from the Consent Decree Library, P.O. Box 7611, Ben Franklin Station, Washington, DC 20044-7611. In requesting a copy, please refer to DJ #90-11-3-990A, and enclose a check in the amount of $18.50 (25 cents per page for reproduction costs), payable to the Consent Decree Library.

Bruce Gelber,
Deputy Chief, Environmental Enforcement Section, Environmental and Natural Resources Division.

[FR Doc. 00-25901 Filed 10-6-00; 8:45 am]

BILLING CODE 4410-15-M